DEPARTMENT OF HOMELAND SECURITY

Federal Emergency Management Agency

Agency Information Collection Activities: Proposed Collection; Comment Request

AGENCY: Federal Emergency Management Agency, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning insurance companies that seek to participate in the National Flood Insurance Program (NFIP), Write Your Own (WYO) Program.

SUPPLEMENTARY INFORMATION: The Federal Emergency Management Agency may enter into arrangements authorized by the National Flood Insurance Act of 1968 as amended (the Act) under the Writer Your Own Program (WYO) with individual private sector insurance companies that are licensed to engage in the business of property insurance. These companies may offer flood insurance coverage to eligible property owners utilizing their customary business practice. To ensure that a company seeking to return or participate in the WYO program is qualified, FEMA is requiring a one-time submission of information to determine the company's qualifications, as set forth in 44 CFR 62.24.

Collection of Information

Title: Write Your Own (WYO) Company Participation Criteria; New Applicant.

Type of Information Collection: Extension of a currently approved collection.

OMB Number: 1660-0038.

Form Numbers: None.

Abstract: The Federal government is a guarantor of flood insurance coverage issued under the WYO arrangement. To determine eligibility for participation in the WYO program, the NFIP requires a on-time submission of data demonstrating insurance companies qualification.

Affected Public: Business or Other For Profit.

Estimated Total Annual Burden Hours:

FEMA activity | Number of respondents (A) | Frequency of response (B) | Hours per response (C) | Annual burden hours (A × B × C)
WYO Criteria | 5 | 1 | 7 | 35
Total | 5 | 1 | 7 | 35

Estimated Cost: There is no cost to insurance companies for this collection of information.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Claudia Murphy, Program Analyst, Mitigation Branch, (202) 646-2775 for additional information. You may contact the Records Management Branch for copies of the proposed collection of information at facsimile number (202) 646-3347 or e-mail address: FEMA-Information-Collections@dhs.gov.

Dated: November 3, 2005.
Darcy Bingham,
Branch Chief, Information Resources Management Branch, Information Technology Services Division.

[FR Doc. 05-23133 Filed 11-22-05; 8:45 am]

BILLING CODE 9110-13-P